DEPARTMENT OF THE INTERIOR

Bureau of Land Management

[LLOPRP0600 L51010000.ER0000 LVRWH09H0600; HAG 10-0137]

Notice of Availability of the Draft Environmental Impact Statement for the Proposed West Butte Wind Power Right-of-Way, Crook and Deschutes Counties, OR

AGENCY: Bureau of Land Management, Interior.

ACTION: Notice of Availability.

SUMMARY: In accordance with the National Environmental Policy Act of 1969, as amended, the Bureau of Land Management (BLM) has prepared a Draft Environmental Impact Statement (EIS) for the West Butte Wind Power Right-of-Way and by this notice is announcing the opening of the comment period.

DATES: To ensure comments will be considered, the BLM must receive written comments on the Draft EIS within 45 days following the date the Environmental Protection Agency publishes its Notice of Availability of this Draft EIS in the Federal Register. The BLM will announce future meetings or hearings and any other public involvement activities at least 15 days in advance through public notices, media releases, and/or mailings.

ADDRESSES: You may submit comments related to the West Butte Wind Power Right-of-Way by any of the following methods:

• Web site: http://www.blm.gov/or/districts/prineville/plans/wbw_power_row/request.php.

• E-mail: or_west_butte_eis@blm.gov.

• Fax: (541) 416-6798.

• Mail: West Butte Wind Power Right of Way, BLM Prineville District Office, 3050 N.E. 3rd Street, Prineville, Oregon 97754.

Copies of the West Butte Wind Power Right-of-Way Draft EIS are available at the Prineville District Office at the above address.

FOR FURTHER INFORMATION CONTACT: The West Butte Wind Power Right-of-Way Project Lead, telephone (541) 416-6885; address 3050 N.E. 3rd Street, Prineville, Oregon 97754; e-mail or_west_butte_eis@blm.gov.

SUPPLEMENTARY INFORMATION: The applicant, West Butte Wind Power, LLC, has requested a right-of-way authorization to construct 3.9 miles of road and an adjacent power transmission line on public land to support renewable energy production on private land, including the construction of up to 52 wind turbines and ancillary facilities. The project is 25 miles southeast of Bend, Oregon on the north side of U.S. Highway 20. The Draft EIS analyzes impacts of the Proposed Action, the Proposed Action with mitigation, and the No Action alternatives, and identifies measures to mitigate adverse impacts. Major issues brought forward during the public scoping process and addressed in the Draft EIS include:

(1) Vegetation;

(2) Wildlife Habitat;

(3) Sensitive Species;

(4) Visual Resources;

(5) Cultural and Tribal Resources;

(6) Noise;

(7) Socioeconomic Impacts; and

(8) Public Safety.

The agency's preferred alternative is the Proposed Action with mitigation.

A Notice of Intent to Prepare an EIS for the West Butte Wind Power Right-of-Way Project was published in the Federal Register on January 19, 2010 (75 FR 2886). Public participation was solicited through the media, mailings, and the BLM Website. The formal scoping period ended February 5, 2010.

Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10.

February 23, 2010.
Stephen Robertson,
Prineville Associate District Manager.

[FR Doc. 2010-7352 Filed 4-1-10; 8:45 am]

BILLING CODE 4310-33-P